DEPARTMENT OF ENERGY

Federal Energy Regulatory Commission

[Docket No. IC24-13-000]

Commission Information Collection Activities (FERC-716); Comment Request; Extension

Correction

In notice document 2024-05125, beginning on page 17460, in the issue of Monday, March 11, 2024, in third column, in the DATES section, “[INSERT DATE 60 days after date of publication in the Federal Register]” should read, “May 10, 2024.”

[FR Doc. C1-2024-05125 Filed 3-14-24; 8:45 am]

BILLING CODE 0099-10-D